DEPARTMENT OF TRANSPORTATION

Federal Aviation Administration

Public Notice for Waiver of Aeronautical Land-Use Assurance; Stevens Point Municipal Airport Stevens Point, WI

AGENCY: Federal Aviation Administration (FAA), DOT.

ACTION: Notice.

SUMMARY: The FAA is considering a proposal to change 47.634 acres known as Parcels 55 and 57 of airport land from aeronautical use to non-aeronautical use and to authorize the sale of airport property located at Stevens Point Municipal Airport, Stevens Point, WI. The aforementioned land is not needed for aeronautical use.

The 47.634 acres of airport property stretches along the entire North East quadrant of the airport property. Starting at the far north edge where the property meets State Highway 66, around to the northeast corner of the Runway 30 Runway Protection Zone. This property does not currently serve an aeronautical purpose. Portions of this property are currently not being used for any purpose and portions along the East edge are being used as an access road for the Izaak Walton League and as part of the Green Circle Trail system. If the airport receives permission from the FAA to release the property from aeronautical obligations, it intends on transferring this property to the community for continued use. The continued use of the land as access and trail will only occur once the relocation of the access and recreational trail has happened.

DATES: Comments must be received on or before March 22, 2018.

ADDRESSES: Documents are available for review by appointment at the FAA Chicago Airports District Office, Robert Lee, Program Manager, 2300 E Devon Avenue, Des Plaines, Illinois 60018, Telephone: (847) 294-7526/Fax: (847) 294-7046.

Written comments on the Sponsor's request must be delivered or mailed to: Robert Lee, Program Manager, Federal Aviation Administration, Chicago Airports District Office, 2300 E Devon Avenue, Des Plaines, IL 60018, Telephone Number: (847) 294-7526/FAX Number: (847) 294-7046.

FOR FURTHER INFORMATION CONTACT: Robert Lee, Program Manager, Federal Aviation Administration, Chicago Airports District Office, 2300 E Devon Avenue, Des Plaines, IL 60018, Telephone Number: (847) 294-7526/FAX Number: (847) 294-7046.

SUPPLEMENTARY INFORMATION: In accordance with section 47107(h) of Title 49, United States Code, this notice is required to be published in the Federal Register 30 days before modifying the land-use assurance that requires the property to be used for an aeronautical purpose.

Parcel 55 was acquired by the City of Stevens Point in 1941 and dedicated to the airport in 1947 as “original airport property”. Parcel 57 was acquired in numerous transactions by the City of Stevens Point, both as part of the original airport property and under federal aviation funding programs. The following list shows the individual parcel acquisitions that comprise Parcel 57, year of acquisition and federal funding program:

Parcel 4—1942 & 1957; (road) original airport property

Parcel 9—1941; original airport property

Parcel 10—1941; original airport property

Parcel 7*—1960; FAAP 9-47-020-0604

Parcel 33—1974; ADAP 7-55-0080-01

Parcel 34—1973; ADAP 7-55-0080-01

Parcel 52—1981; ADAP 7-55-0080-01/AIP 3-55-0080-01

Parcel 53—1981; ADAP 7-55-0080-01/AIP 3-55-0080-01

* Avigation easement terminated by merger with fee purchase of Parcel 34.

The sponsors proposed non-aeronautical use for this land is the continued use as access to the Izaak Walton League and part of the Green Circle Trail system. The Sponsor proposes a land exchange with City of Stevens Point and will in return gain 49.140 acres (parcels 54 and 56) of land suitable for approach protection.

The property appraisals were developed and reviewed in accordance with FAA order 5100.37B. The appraisal reports are located at the Chicago Airports District Office.

Appraisal reviews are also found at the Chicago Airport District Office. The net gain to the airport is 1.506 acres of land and an increase in airport property value of $46,500. The appraised fair market value (FMV) of each parcel is listed below:

Land to be disposed:

Parcel 55—Acreage = 20.772 Appraised FMV is $54,000.00

Parcel 57—Acreage = 26.862 Appraised FMV is $53,800.00

Land to be acquired:

Parcel 54—Acreage = 46.700 Appraised FMV is $149,400.00

Parcel 56—Acreage = 2.440 Appraised FMV is $4,900.00

The disposition of proceeds from the sale of the airport property will be in accordance with FAA's Policy and Procedures Concerning the Use of Airport Revenue, published in the Federal Register on February 16, 1999 (64 FR 7696).

This notice announces that the FAA is considering the release of the subject airport property at the Stevens Point Municipal Airport, Stevens Point, WI from federal land covenants, subject to a reservation for continuing right of flight as well as restrictions on the released property as required in FAA Order 5190.6B section 22.16. Approval does not constitute a commitment by the FAA to financially assist in the disposal of the subject airport property nor a determination of eligibility for grant-in-aid funding from the FAA.

Parcel 55

A parcel of land being a part of the Northwest Quarter of the Northeast Quarter, the Northeast Quarter of the Northwest Quarter, the Northwest Quarter of the Northwest Quarter and the Southwest Quarter of the Northeast Quarter of Section 26, T24N, R8E, City of Stevens Point, Portage County, Wisconsin more fully described as follows:

Commencing at the North Quarter Corner of Section 26; Thence N89°47′20″ E along the North line of the Northeast Quarter of Section 26 a distance of 185.29 feet to the point of beginning. Thence S10°56′42″ E a distance of 214.40 feet; Thence S29°40′58″ W a distance of 700.00 feet; Thence S68°35′57″ W a distance of 1399.29 feet to its intersection with the South line of the Northwest Quarter of the Northwest Quarter of Section 26; Thence N89°50′32″ E along said South line and the South line of the Northeast Quarter of the Northwest Quarter of Section 26 a distance of 1386.66 feet to a Westerly meander line of the Plover River; Thence N65°35′27″ E along said meander line a distance of 194.50 feet; Thence S78°43′24″ E along said meander line a distance of 191.79 feet; Thence N49°30′10″ E along said meander line a distance of 132.66 feet; Thence N37°47′20″ W along said meander line a distance of 184.32 feet; Thence N09°18′13″ W along said meander line a distance of 143.29 feet; Thence N04°05′03″ E along said meander line a distance of 199.86 feet; Thence N57°31′48″ E along said meander line a distance of 124.20 feet; Thence S81°41′34″ E along said meander line a distance of 76.79 feet; Thence S19°51′36″ E along said meander line a distance of 258.46 feet; Thence N00°29′04″ W a distance of 898.93 feet to its intersection with the North line of the Northeast Quarter of Section 26; Thence S89°47′20″ W along said North line a distance of 383.10 feet to the point of beginning.

Parcel 57

A parcel of land being a part of the Southwest Quarter of the Southeast Quarter, the Southeast Quarter of the Southwest Quarter of Section 14, the Northwest Quarter of the Northeast Quarter, the Northeast Quarter of the Northwest Quarter, the Southwest Quarter of the Northwest Quarter, the Southeast Quarter of the Northwest Quarter, the Northwest Quarter of the Southwest Quarter, the Northeast Quarter of the Southwest Quarter, the Southwest Quarter of the Southwest Quarter and the Southeast Quarter of the Southwest Quarter of Section 23, T24N, R8E, City of Stevens Point, Portage County, Wisconsin more fully described as follows:

Commencing at the West Quarter Corner of Section 14; Thence S89°48′07″ E along the North line of the Southwest Quarter of Section 14 a distance of 2630.42 feet to a 2″ Iron Pipe also being the Center of Section 14; Thence S00°24′38″ E along the East line of the Southwest Quarter of Section 14 a distance of 1314.25 feet to the Northwest Corner of the Southwest Quarter of the Southeast Quarter of Section 14 also being the point of beginning. Thence S89°50′51″ E along the North line of the Southwest Quarter of the Southeast Quarter of Section 14 a distance of 742.80 feet; Thence S00°21′56″ E a distance of 1312.22 feet to its intersection with the South line of the Southwest Quarter of the Southeast Quarter of Section 14; Thence S89°59′49″ W along said South line a distance of 622.73 feet; Thence S29°39′41″ W a distance of 2807.79 feet to the West line of the Southeast Quarter of the Northwest Quarter of Section 23; Thence S00°27′59″ E along said West line a distance of 211.40 feet to the Northwest Corner of the Northeast Quarter of the Southwest Quarter of Section 23; Thence S00°24′01″ E along the West line of the Northeast Quarter of the Southwest Quarter of Section 23 a distance of 1328.47 feet to the Southwest Corner of the Northeast Quarter of the Southwest Quarter of Section 23; Thence N89°53′32″ E along the South line of the Northeast Quarter of the Southwest Quarter of Section 23 a distance of 1309.80 feet to the Northeast Corner of the Southeast Quarter of the Southwest Quarter of Section 23; Thence S00°43′30″ E along the East line of the Southeast Quarter of the Southwest Quarter of Section 23 a distance of 350.02 feet; Thence S89°53′32″ W a distance of 877.14 feet; Thence N57°30′33″ W a distance of 618.84 feet; Thence N00°24′01″ W a distance of 1344.59 feet; Thence N00°27′59″ W a distance of 196.38 feet;

Thence N29°39′41″ E a distance of 2452.09 feet; Thence N38°12′00″ E a distance of 1292.15 feet; Thence N22°27′46″ W a distance of 602.03 feet; Thence N89°50′51″ W a distance of 436.79 feet; Thence N89°48′28″ W a distance of 675.78 feet;

Thence S40°22′20″ W a distance of 152.91 feet; Thence N49°37′40″ W a distance of 99.84 feet to its intersection with the Southeasterly Right-of-Way of STH 66; Thence N40°23′54″ E along said Southeasterly line a distance of 155.05 feet to its intersection with the North line of the Southeast Quarter of the Southwest Quarter of Section 14;

Thence S89°48′28″ E along said North line a distance of 750.60 feet to the point of beginning.

Issued in Des Plaines, IL, on January 25, 2018.
Deb Bartell,
Manager, Chicago Airports District Office, FAA, Great Lakes Region.

[FR Doc. 2018-03423 Filed 2-16-18; 8:45 am]

BILLING CODE 4910-13-P